DEPARTMENT OF COMMERCE

International Trade Administration

Notice of Scope Rulings

AGENCY: Enforcement and Compliance, International Trade Administration, Department of Commerce.

DATES: Applicable December 13, 2023.

SUMMARY: The U.S. Department of Commerce (Commerce) hereby publishes a list of scope rulings and circumvention determinations made during the period July 1, 2023, through September 30, 2023. We intend to publish future lists after the close of the next calendar quarter.

FOR FURTHER INFORMATION CONTACT: Marcia E. Short, AD/CVD Operations, Customs Liaison Unit, Enforcement and Compliance, International Trade Administration, U.S. Department of Commerce, 1401 Constitution Avenue NW, Washington, DC 20230; telephone: (202) 482-1560.

SUPPLEMENTARY INFORMATION:

Background

Commerce regulations provide that it will publish in the Federal Register a list of scope rulings on a quarterly basis.¹ Our most recent notification of scope rulings was published on September 1, 2023.² This current notice covers all scope rulings made by Enforcement and Compliance between July 1, 2023, and September 30, 2023.

¹ See 19 CFR 351.225(o).

² See Notice of Scope Rulings, 88 FR 60434 (September 1, 2023).

Scope Rulings Made July 1, 2023, Through September 30, 2023

People's Republic of China (China)

A-570-979 and C-570-980: Crystalline Silicon Photovoltaic Cells, Whether or Not Assembled Into Modules, From China

Requestor: Anker Innovations Limited. The T8700 eufyCam security solar panel is not covered by the scope of the antidumping duty (AD) and countervailing duty (CVD) orders on crystalline silicon photovoltaic cells, whether or not assembled into modules, from China because it meets an express exclusion in the scope of the orders for off-grid solar panels; July 17, 2023.

A-570-117 and C-570-118: Wood Mouldings and Millwork Products From China

Requestor: Hardware Resources, Inc. Edge-glued boards are covered by the scope of the AD order on wood mouldings and millwork products from China because they are made of wood, continuously shaped wood, finger-jointed, and edge-glued mouldings or millwork blanks (whether or not resawn); August 2, 2023.

A-570-899: Certain Artist Canvas From China

Requestor: Printing Textiles, LLC dba Berger Textiles (Berger Textiles). Canvas banner matisse (CBM) imported by Berger Textiles is covered by the scope of the AD order on certain artist canvas from China because CBM is a polyester fabric that is primed/coated to convert the fabric into a canvas and enters the United States as rolls for art reproduction, wall covering, and décor applications; August 15, 2023.

A-570-979 and C-570-980: Crystalline Silicon Photovoltaic Cells, Whether or Not Assembled Into Modules, From China

Requestor: Sonali Energees USA LLC (Sonali). The solar cells assembled into solar modules in Cambodia from Chinese-origin silicon wafers, do not fall within the scope of the AD/CVD orders on crystalline silicon photovoltaic cells, whether or not assembled into modules, from China because the formation of the p/n junction occurred in Cambodia. As the Chinese-origin silicon wafers did not undergo the activation of the p/n junction until reaching Cambodia, the raw material is not a solar cell from China within the meaning of the scope of the Orders; August 23, 2023. Note that Sonali's merchandise may be subject to the U.S. Department of Commerce's final circumvention determination dated August 23, 2023, as imports of solar cells and modules that have been completed in Cambodia, using parts and components produced in China, that are then subsequently exported from Cambodia to the United States were found to be circumventing the antidumping duty and countervailing duty orders on solar cells and modules from China.

A-570-601: Tapered Roller Bearings and Parts Thereof, Finished and Unfinished, From China

Requestor: Precision Components Inc. Low-carbon steel blanks are covered by the scope of the AD order on tapered roller bearings and parts thereof, finished, and unfinished, from China, because the scope explicitly covers unfinished tapered roller bearing parts; September 19, 2023.

A-570-865: Certain Hot-Rolled Carbon Steel Flat Products From China

Requestor: Concept2, Inc. The front foot and front foot caster assembly for exercise equipment are not covered by the scope of the AD order on certain hot-rolled carbon steel flat products from China, because the front foot is not flat, and it is expressly excluded from the scope because it is not in coils, is non-rectangular in shape, has been processed by cutting (from a large steel sheet), and, together with other parts form the front foot caster assembly, has assumed the character of an article classified outside HTSUS Chapter 72; and the front foot caster assembly comprises the front foot and other parts that do not meet the physical and chemical requirements of the scope; September 25, 2023.

Preliminary Scope Rulings Made July 1, 2023, Through September 30, 2023

China

A-570-981 and C-570-982: Utility Scale Wind Towers From China

Requestor: Orsted A/S, Orsted North America Inc. The sources enumerated in 19 CFR 351.225(k)(1) demonstrate that monopiles, i.e., steel cylinders that serve as a foundation for offshore wind turbines, are not covered by the scope of the AD/CVD orders on utility scale wind towers from China; August 14, 2023.

A-570-135 and C-570-136: Certain Chassis and Subassemblies Thereof From China

Requestor: Pitts Enterprises, Inc. dba Dorsey Intermodal. Vietnamese chassis containing Chinese-origin subassemblies are covered by the scope of the AD order on certain chassis and subassemblies thereof from China because a Chinese-origin subassembly is considered an unfinished chassis and subject merchandise. Furthermore, the scope clearly outlines that any processing of finished and unfinished chassis in a third country does not remove the product from the scope; September 15, 2023.

Spain

A-469-823: Utility Scale Wind Towers From Spain

Requestor: Orsted A/S, Orsted North America Inc. The sources enumerated in 19 CFR 351.225(k)(1) demonstrate that monopiles, i.e., steel cylinders that serve as a foundation for offshore wind turbines, are not covered by the scope of the AD order on utility scale wind towers from Spain; August 14, 2023.

Notification to Interested Parties

Interested parties are invited to comment on the completeness of this list of completed scope inquiries and scope/circumvention inquiry combinations made during the period July 1, 2023, through September 30, 2023. Any comments should be submitted to the Deputy Assistant Secretary for AD/CVD Operations, Enforcement and Compliance, International Trade Administration, via email to CommerceCLU@trade.gov.

This notice is published in accordance with 19 CFR 351.225(o).

Dated: December 8, 2023.
James Maeder,
Deputy Assistant Secretary for Antidumping and Countervailing Duty Operations.

[FR Doc. 2023-27326 Filed 12-12-23; 8:45 am]

BILLING CODE 3510-DS-P